DEPARTMENT OF COMMERCE

National Oceanic and Atmospheric Administration

[I.D. 041200C]

Western Pacific Fishery Management Council; Public Meeting

AGENCY: National Marine Fisheries Service (NMFS), National Oceanic and Atmospheric Administration (NOAA), Commerce.

ACTION: Notice of public meeting.

SUMMARY: The 103rd meeting of the Western Pacific Fishery Management Council (Council) will convene May 1, 2000, at 1 p.m.

ADDRESSES: The meeting will be held at the Western Pacific Fishery Management Council office, 1164 Bishop St., Suite 1400, Honolulu, HI 96813.

FOR FURTHER INFORMATION CONTACT: Kitty M. Simonds, Executive Director; telephone: 808-522-8220.

SUPPLEMENTARY INFORMATION: The agenda during the full Council meeting will include the items below. The order in which agenda items are addressed may change.

1. Introductions;

2. Approval of Agenda;

3. Approval of 102nd Meeting Minutes;

4. Banning bottom longline fishing for pelagic management unit species in Federal waters around Hawaii as a preferred alternative under the Pelagics Fishery Management Plan (FMP);

5. Banning of spear fishing with SCUBA apparatus during day and night in the Western Pacific Region, as a preferred alternative under the Coral Reef Ecosystem FMP;

6. The Council may also wish to discuss issues relating to fisheries under Council jurisdiction in the Northwestern Hawaiian Islands;

7. Approval of Elliot Lutali's membership of Pelagic Plan Team;

8. Public comment;

9. Council action; and

10. Other business.

Although other non-emergency issues not contained in this agenda may come before this Council for discussion, in accordance with the Magnuson-Stevens Fishery Conservation and Management Act, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Kitty M. Simonds, Executive Director, (808) 522-8220 (voice) or (808) 522-8226 (fax), at least 5 days prior to meeting date.

Dated: April 12, 2000.
Bruce C. Morehead,
Acting Director, Office of Sustainable Fisheries, National Marine Fisheries Service.

[FR Doc. 00-9566 Filed 4-14-00; 8:45 am]

BILLING CODE 3510-22-F